DEPARTMENT OF TRANSPORTATION

Federal Highway Administration

Environmental Impact Statement: New York County, NY

AGENCY: Federal Highway Administration (FHWA), DOT.

ACTION: Notice of intent.

SUMMARY: The FHWA is issuing this notice to advise the public that a supplement to a Final Environmental Impact Statement/Section 4(f) Evaluation will be prepared for a proposed highway project in New York County, New York.

FOR FURTHER INFORMATION CONTACT:

Richard Schmalz, Route 9A Project Director, New York State Department of Transportation, 21 South End Avenue, New York, NY 10280-1044, Telephone: (212) 201-0917.

or

Robert Arnold, Division Administrator, Federal Highway Administration, New York Division, Leo W. O'Brien Federal Building, 7th Floor, Clinton Avenue and North Pearl Street, Albany, New York 12207, Telephone: (518) 431-4127.

SUPPLEMENTARY INFORMATION: In accordance with the National Environmental Policy Act (NEPA) of 1969 and 23 U.S.C. 315 and 23 CFR 777.123, the FHWA, in cooperation with the New York State Department of Transportation (NYSDOT), will prepare a supplement to a Final Environmental Impact Statement/Section 4(f) Evaluation (EIS) on a proposal to restore U.S. Route 9A (West Street) in New York County (Manhattan). The original EIS for the improvements on Route 9A from Battery Park to 59th Street was published in May 1994, for which the Record of Decision was issued in July 1994. The Supplemental EIS (SEIS) will be a comprehensive summary of the results of the analyses performed for the proposed action in the section of Route 9A from Albany Street to Chambers Street for a distance of about one-half mile, where conditions have changed as a result of the attacks of September 11, 2001. The scope of issues to be addressed in the SEIS is consistent with those issues previously addressed in the original EIS.

As part of the Lower Manhattan redevelopment efforts, the NYSDOT and the FHWA, in cooperation with Lower Manhattan Development Corporation (LMDC), Port Authority of New York & New Jersey (PANY&NJ), New York City Department of Transportation (NYCDOT) and the Metropolitan Transportation Authority (MTA), are studying alternatives to rebuild the section of Route 9A/West Street between Albany Street and Chambers Street. The section of highway in these limits was destroyed by the September 11, 2001 terrorist attacks on the World Trade Center (WTC) or subsequently damaged by cleanup and/or recovery activities. The study to reconstruct Route 9A/West Street is being undertaken in order to integrate the reconstruction of Route 9A into the overall redevelopment planning initiative for Lower Manhattan to better serve the existing and planned adjacent uses. The section of West Street from Battery Place to Chambers Street was under construction and almost complete just prior to the 9-11 attack. The plan being constructed at the time was the preferred plan from the 1994 Route 9A FEIS.

The alternatives currently under consideration for Route 9A/West Street are: (1) The No Action Alternative, which is included as a baseline alternative against which all other alternatives are measured. This alternative would make permanent the six-lane roadway that was opened March 29, 2002. (2) An At-Grade Alternative, which restores eight lanes, four northbound and four southbound, in front of the WTC site as originally approved in the 1994 Route 9A FEIS with a slight alignment shift to the west to avoid the now exposed WTC slurry wall. This alternative would also provide pedestrian overpasses to facilitate movement of pedestrians across West Street. (3) A Short Bypass Alternative, which restores eight lanes in front of the WTC site by depressing four through traffic lanes and providing four lanes at grade for local traffic circulation. The bypass would drop below street grade in an 1100-foot-long covered underpass north of Albany Street and rise to street level just south of Murray Street to provide an enhanced setting, green space and public space at the proposed WTC memorial site and World Financial Center (WFC). A wide sidewalk would also be provided adjacent to the WTC site for north-south pedestrian traffic and memorial visitors.

The build alternatives are consistent with the original goals and objectives of the Route 9A Reconstruction Project, near completion just prior to the 9/11 attacks, and also address those of the LMDC. The LMDC planning initiative as outlined in the “Principles and Preliminary Blue Print for the Future of Lower Manhattan” report and the needs resulting from the terrorist attack are important in the evaluation of this project. Additional influences on the project include the “New York City's Vision for Lower Manhattan” developed by New York City and presented by Mayor Michael Bloomberg in December 2002 and the selected WTC site development plan by Studio Daniel Libeskind Architects. The build alternatives being considered for Route 9A / West Street address and are compatible with the principles and plans outlined in these documents.

Letters describing the proposed action and soliciting comments will be sent to appropriate Federal, Sate, and local agencies, and to private organizations and citizens who have previously expressed interest in this proposal. A Public Meeting will be held on November 19, 2003, at the U.S. Customs House, from 12 p.m. to 8 p.m., at which comments from the public will be taken, and a transcript of the entire proceedings will be produced. Public notice will be given for the time and place of future meetings and the public hearing on the Draft SEIS. The Draft SEIS will be available for public and agency review and comment. Coordination with the public, stakeholders and agencies involved will continue to be provided throughout preparation of the SEIS.

To ensure that the full range of issues related to this proposed action are addressed and all significant issues identified, comments and suggestions are invited from all interested parties. Comments or questions concerning this proposed action and the SEIS should be directed to the NYSDOT or FHWA at the addresses provided above.

(Catalog of Federal Domestic Assistance Program Number 20.205, Highway Research, Planning and Construction. The regulations implementing Executive Order 12372 regarding intergovernmental consultation on Federal programs and activities apply to this program.)

Authority: 23 U.S.C. 315; 23 CFR 771.123

Issued on: October 29, 2003.
Douglas P. Conlan,
District Operations Engineer, Federal Highway Administration, Albany, New York.

[FR Doc. 03-27103 Filed 10-27-03; 8:45 am]

BILLING CODE 4910-22-M